DEPARTMENT OF THE INTERIOR

Bureau of Land Management

[OR-116-2822-JL-P124, OR-116-2822-JL-P158; HAG03-0076]

Temporary Road Closure and Supplementary Rules for Public Lands in Jackson County, Oregon

AGENCY: Medford District Office, Bureau of Land Management, Interior.

ACTION: Closure and Interim Final Supplementary Rules.

SUMMARY: The Bureau of Land Management (BLM) is publishing this closure notice and these interim final supplementary rules regulating motorized and mechanized vehicle use on specific public lands in Jackson County, Oregon. These public lands are within and in the immediate vicinity of the recent fire areas labeled the Squires Peak Fire and the East Antelope Fire. This action is necessary for public safety and to protect fire-damaged watersheds from further degradation.

DATES: The closures and interim final supplementary rules will be effective from March 26, 2003, until June 30, 2006, unless rescinded before that date. You may comment on the closures and interim final supplementary rules. You must submit your comments to BLM at the appropriate address below on or before May 27, 2003. BLM will not necessarily consider any comments received after the above date in making its decisions on the final supplementary rules.

ADDRESSES: Mail or personal delivery: Field Office Manager, Ashland Field Office, Bureau of Land Management, 3040 Biddle Road, Medford, Oregon 97504. Email response: jhoppe@or.blm.gov.

FOR FURTHER INFORMATION CONTACT: John Samuelson, Ashland Field Office, Bureau of Land Management, 3040 Biddle Road, Medford, Oregon 97504 or telephone 541-618-2313. Persons who use a telecommunications device for the deaf (TDD) may contact this individual by calling the Federal Information Relay Service (FIRS) at (800) 877-8339, 24 hours a day, 7 days a week.

SUPPLEMENTARY INFORMATION

I. Public Comment Procedures

II. Background

III. Discussion of Interim Final Supplementary Rules

IV. Procedural Matters

I. Public Comment Procedures

A. How do I comment on the interim final rule?

If you wish to comment, you may submit your comments by any one of several methods.

(1) You may mail comments to: Field Office Manager, Ashland Field Office, Bureau of Land Management, 3040 Biddle Road, Medford, Oregon 97504.

(2) You may deliver comments to: Field Office Manager, Ashland Field Office, Bureau of Land Management, 3040 Biddle Road, Medford, Oregon 97504.

(3) You may email comments to: jhoppe@or.blm.gov.

If you do not receive a confirmation that we have received your electronic message, contact us directly at 541-523-1256.

Please make your comments on the supplementary rules as specific as possible, confine them to issues pertinent to the rules, and explain the reason for any changes you recommend. Where possible, your comments should reference the specific section or paragraph of the supplementary rules that you are addressing.

BLM may not necessarily consider or include in the Administrative Record for the final supplementary rules comments that BLM receives after May 27, 2003 or comments delivered to an address other than those listed above.

B. May I Review Comments Submitted By Others?

Comments, including names and street addresses of respondents, will be available for public review at the address listed under ADDRESSES: Mail or personal delivery” during regular business hours (7:45 a.m. to 4:15 p.m.), Monday through Friday, except holidays.

Individual respondents may request confidentiality, which we will honor to the extent allowable by law. If you wish to withhold your name or address, except for the city or town, you must state this prominently at the beginning of your comment. We will make all submissions from organizations or businesses, and from individuals identifying themselves as representatives or officials of organizations or businesses, available for public inspection in their entirety.

II. Background

Notice is hereby given that all motorized and mechanized travel is prohibited on roads, trails, and public lands in two areas recently burned by wildfires. The two areas are: the Squires Peak Fire and the East Antelope Fire. The Squires Peak Fire area is located southwest of Medford, Oregon, in Jackson County. The East Antelope Fire area is located northeast of Ashland, Oregon, also in Jackson County. This action is necessary to insure public safety and to prevent additional resource damage while restoration and rehabilitation activities proceed in the two affected areas.

This rule includes the following roads and public lands within the perimeter of the Squires Peak Fire:

All public lands within the fire perimeter are located in Section 31, T. 38 S., R. 2 W., Sections 35 and 36, T. 38 S., R. 3 W., Sections 5, 6, 7, and 8, T. 39 S., R. 2 W., and Sections 1 and 2, T.39 S., R. 3 W., Willamette Meridian. BLM roads closed are as follows: #39-3-3.0, #39-2-7.1, #38-3-26.2, #38-2-31.0, and #38-2-31.1 including those portions outside of the fire perimeter. BLM roads remaining open include: #38-3-26.1 and #28-2-29.0. This area is further designated on the Map titled “Squires Peak Fire Restricted Area”, prepared by the Bureau of Land Management and dated January 31, 2003.

The rule also includes all public lands within the fire perimeter of the East Antelope Fire: These lands are within the fire perimeter as located in Sections 12, 13, and 24, T. 38 S., R. 1 E., and Sections 7, 17, 18, and 19, T. 38 S., R. 2 E., Willamette Meridian. This area is further designated on the Map titled “East Antelope Fire Restricted Area”, prepared by the BLM and dated January 31, 2003.

III. Discussion of Rule

Why is this rule being published as interim final?

We are making these closures effective immediately because significant health and safety risks to the public and danger of further damage to fire-damaged and fragile resources require immediate action. The significant loss of ground cover and vegetation in these fire areas has caused accelerated erosion and potential dangers from water run-off and subsequent instability of existing roads, trails, and cross country routes. The BLM needs to take immediate and aggressive action to stop man-caused damage and to begin stabilizing the fire areas.

Because of the immediate and ongoing hazards to the public's health and safety and because of the need to protect natural resources, we find good cause to publish these rules as interim final, effective March 26, 2003, and allowing 60 days for public comment.

IV. Procedural Matters

The principal author of this interim final rule is Richard Drehobl, assisted by John Samuelson of the Ashland Resource Area, Medford District Office, BLM.

Regulatory Planning and Review (E.O. 12866)

This rule is not a significant rule and is not subject to review by the Office of Management and Budget under Executive Order 12866.

(1) This rule will not have an effect of $100 million or more on the economy. It will not adversely affect in a material way the economy, productivity, competition, jobs, the environment, public health or safety, or State, local, or tribal governments or communities.

(2) This rule will not create a serious inconsistency or otherwise interfere with an action taken or planned by another agency.

(3) This rule does not alter the budgetary effects or entitlements, grants, user fees, or loan programs or the rights or obligations of their recipients.

(4) This rule does not raise novel legal or policy issues.

The supplementary rules will not affect legal commercial activity, but contain rules of conduct for public use of a limited selection of public lands.

Regulatory Flexibility Act

The Department of the Interior certifies that this rule will not have a significant economic effect on a substantial number of small entities under the Regulatory Flexibility Act (5 U.S.C. 601 et seq.). The supplementary rules will not affect legal commercial activity, but contain rules of conduct for public use of a limited selection of public lands.

Small Business Regulatory Enforcement Fairness Act (SBREFA)

This rule is not a major rule under 5 U.S.C. 804(2), the Small Business Regulatory Enforcement Fairness Act. This rule:

• Does not have an annual effect on the economy of $100 million or more. (See the discussion under Regulatory Planning and Review, above.)

• Will not cause a major increase in costs or prices for consumers, individual industries, Federal, State, or local government agencies, or geographic regions. (See the discussion above under the Regulatory Flexibility Act.)

• Does not have significant adverse effects on competition, employment, investment, productivity, innovation, or the ability of U.S.-based enterprises to compete with foreign-based enterprises.

Unfunded Mandates Reform Act

The closures and supplementary rules do not impose an unfunded mandate on state, local, or tribal governments or the private sector of more than $100 million per year. They do not have a significant or unique effect on state, local, or tribal governments or the private sector. The closures and rules have no effect on governmental or tribal entities. A statement containing the information required by the Unfunded Mandates Reform Act (2 U.S.C. 1531 et seq.) is not required.

Takings (E.O. 12630)

In accordance with Executive Order 12630, we find that the closures and supplementary rules do not have significant takings implications. The enforcement provision interim final does not include any language requiring or authorizing forfeiture of personal property or any property rights. E.O. 12630 addresses concerns based on the Fifth Amendment dealing with private property taken for public use without compensation. The two fire areas are both on public land managed by the Bureau of Land Management, and any owners of private inholdings are specifically excluded from the effect of the closures and rules. Therefore no private property is affected. A takings implications assessment is not required.

Federalism (E.O. 13132)

In accordance with Executive Order 13132, we find that the closures and supplementary rules do not have sufficient federalism implications to warrant the preparation of a federalism summary impact statement. The closures and rules do not have substantial direct effects on the states, on the relationship between the national government and the states, or on the distribution of power and responsibilities among the various levels of government. The rules do not preempt state law.

Civil Justice Reform (E.O. 12988)

In accordance with Executive Order 12988, the Office of the Solicitor has determined that this rule does not unduly burden the judicial system and meets the requirements of sections 3(a) and 3(b)(2) of the Executive Order.

Consultation and Coordination With Indian Tribal Governments (E.O. 13175)

In accordance with Executive Order 13175, we have found that this final rule would not include policies that have tribal implications. The rule would not affect lands held for the benefit of Indians, Aleuts, and Eskimos.

Paperwork Reduction Act

The closures and supplementary rules do not contain information collection requirements that the Office of Management and Budget must approve under the Paperwork Reduction Act, 44 U.S.C. 3501 et seq.

National Environmental Policy Act

The closures and supplementary rules do not constitute a major Federal action significantly affecting the quality of the human environment. A detailed statement under the National Environmental Policy Act of 1969 is not required. [EA prepared?? need to refer to it]

Clarity of This Regulation

Executive Order 12866 requires each agency to write regulations that are easy to understand. We invite your comments on how to make this rule easier to understand, including answers to questions such as the following:

(1) Are the requirements in the rule clearly stated?

(2) Does the rule contain technical language or jargon that interferes with its clarity?

(3) Does the format of the rule (grouping and order of sections, use of headings, paragraphing, etc.) aid or reduce its clarity?

(4) Would the rule be easier to understand if it were divided into more (but shorter) sections?

(5) Is the description of the rule in the SUPPLEMENTARY INFORMATION section of this preamble helpful in understanding the interim final rule? What else could we do to make the interim final rule easier to understand?

If you have any comments that concern how we could make this rule easier to understand, in addition to sending the original to the address shown in ADDRESSES, above, please send a copy to: Office of Regulatory Affairs, Department of the Interior, Room 7229, 1849 C Street NW., Washington, DC 20240. You may also e-mail the comments to this address: Execsec@ios.doi.gov.

The authority for these closures and supplementary rules is found in Authority: 43 U.S.C. 1733; 43 CFR 8364.1; and 43 CFR 8365.1-6.

Sec. 1 Prohibited acts.

a. Prohibited acts. Within the closed area you must not:

1. Operate any motorized vehicle.

2. Operate any mechanized vehicle.

b. Exemptions. The following are exempt from prosecution under the prohibited acts:

1. Any person operating a motorized vehicle on a publicly maintained State or County road;

2. Any Federal, state or local officers or employees or contractor in the scope of their duties;

3. Members of any organized rescue or fire-fighting force in the performance of official duty;

4. Any private landowners owning property within the fire perimeters and exercising rights of ingress/egress to that property using existing roads; and

5. Any person authorized in writing by BLM.

Sec. 2 Penalties.

On public lands, under section 303(a) of the Federal Land Policy and Management Act of 1976 (43 U.S.C. 1733(a)) and 43 CFR 8360.0-7, any person who violates any of these supplementary rules may be tried before a United States Magistrate and fined no more than $1,000 or imprisoned for no more than 12 months, or both. Such violations may also be subject to the enhanced fines provided for by 18 U.S.C. 3571.

Dated: February 12, 2003.
Elaine M. Brong,
Oregon State Director.

[FR Doc. 03-7170 Filed 3-25-03; 8:45 am]

BILLING CODE 4310-33-P